DEPARTMENT OF HEALTH AND HUMAN SERVICES

Centers for Disease Control and Prevention

Board of Scientific Counselors, National Center for Injury Prevention and Control: Notice of Charter Renewal

This gives notice under the Federal Advisory Committee Act (Pub. L. 92-463) of October 6, 1972, that the Board of Scientific Counselors, National Center for Injury Prevention and Control, Centers for Disease Control and Prevention (CDC), Department of Health and Human Services (HHS), has been renewed for a 2-year period through November 5, 2017.

For information, contact Gwendolyn Cattledge, Ph.D., Designated Federal Officer, Board of Scientific Counselors, National Center for Injury Prevention and Control, CDC, HHS, 1600 Clifton Road NE., M/S F63, Atlanta, Georgia 30329-4027, Telephone 770/488-4655.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2015-29257 Filed 11-16-15; 8:45 am]

BILLING CODE 4163-18-P